NATIONAL AERONAUTICS AND SPACE ADMINISTRATION

[NOTICE: 23-068]

Request for Information: Freedom of Information Act (FOIA) Disclosures: Proposed NASA Grant Application Marking for FOIA Disclosure-Exempt Material

AGENCY: National Aeronautics and Space Administration.

ACTION: Request for information.

SUMMARY: National Aeronautics and Space Administration's (NASA) Grants Policy and Compliance (GPC) in the Office of Procurement is soliciting public comment on the Agency's proposed change to the marking of grant application materials, requiring marking of proprietary or trade secrets in NASA grant and cooperative agreement applications.

DATES: Comments must be received by July 20, 2023.

ADDRESSES: Comments should be addressed to National Aeronautics and Space Administration Headquarters, 300 E Street SW, Rm. 6087, Washington, DC 20546 or sent by email to laila.ouhamou@nasa.gov; Phone Number: 202-358-2180, FAX Number: 202-358-3336. We encourage respondents to submit comments electronically to ensure timely receipt. We cannot guarantee that comments mailed will be received before the comment closing date. Please include “NASA Grants FOIA RFI” in the subject line of the email message. Please also include the full body of your comments in the text of the message and as an attachment. Include your name, title, organization, postal address, telephone number, and email address in your message.

FOR FURTHER INFORMATION CONTACT: Laila Ouhamou, 300 E Street SW, Rm. 6087, Washington, DC 20546, (202) 993-5942, email: laila.ouhamou@nasa.gov.

SUPPLEMENTARY INFORMATION: The Freedom of Information Act (FOIA) provides that any person has a right, enforceable in court, to obtain access to Federal agency records, except to the extent that such records (or portions of them) are protected from public disclosure by one of nine exemptions or by one of three special law enforcement record exclusions. Grant applicants to NASA should be aware that award information may be subject to disclosure through a FOIA request. FOIA rules contain exemptions for certain categories of information that may be restricted from release, including proprietary information which includes trade secrets or commercial or financial information that is confidential or privileged. NASA is considering a requirement that applicants indicate areas in their grant applications that they believe fall under this exemption to FOIA release. In order for NASA to determine how this proposed change may impact NASA grant and cooperative agreement applicants and recipients, please consider including answers to these questions in your response:

(1) What impacts would this grant application requirement have on your organization?

(2) Should NASA keep the same page limits if applicants must mark FOIA-exempt portions of applications?

(3) If page limits should be increased, how many pages would enable your organization need to mark the FOIA-release exempt portions?

(4) What else should NASA consider in its development of guidance surrounding FOIA for NASA grants and cooperative agreements?

NASA's expectation is that this proposed marking of application information will enable NASA to promptly respond to FOIA requests for grant information, as required by law.

Cheryl Parker,
Federal Register Liaison Officer.

[FR Doc. 2023-13580 Filed 6-26-23; 8:45 am]

BILLING CODE 7510-13-P